DEPARTMENT OF JUSTICE

Antitrust Division

Notice Pursuant to the National Cooperative Research and Production act of 1993—Information Storage Industry Consortium

Notice is hereby given that, on October 28, 2002, pursuant to section 6(a) of the National Cooperative Research and Production Act of 1993, 15 U.S.C. 4301 et seq. (“the Act”), Information Storage Industry Consortium (“INSIC”) has filed written notifications simultaneously with the Attorney General and the Federal Trade Commission disclosing changes in its membership status. The notifications were filed for the purpose of extending the Act's provisions limiting the recovery of antitrust plaintiffs to actual damages under specified circumstances. Specifically, NSA, Ft. Meade, MD; and SONY, Boulder, CO have been added as parties to this venture. The following university has joined INSIC as a university associate member: University of Manchester, Manchester, United Kingdom.

No other changes have been made in either the membership or planned activity of the group research project. Membership in this group research project remains open, and INSIC intends to file additional written notifications disclosing all changes in membership.

On June 12, 1991, INSIC filed its original notification pursuant to section 6(a) of the Act. The Department of Justice published a notice in the Federal Register pursuant to Section 6(b) of the Act on August 13, 1991 (56 FR 38465).

The last notification was filed with the Department on may 3, 2002. A notice was published in the Federal Register pursuant to section 6(b) of the Act on June 21, 2002 (67 FR 42281).

Constance K. Robinson,
Director of Operations, Antitrust Division.

[FR Doc. 02-32054 Filed 12-19-02; 8:45 am]

BILLING CODE 4410-11-M